DEPARTMENT OF THE INTERIOR

National Park Service

Notice of Intent To Prepare an Environmental Impact Statement; Poplar Point Redevelopment Project and Proposed National Park Service and U.S. Park Police Facilities Relocation

AGENCY: National Park Service, Department of the Interior.

ACTION: Notice of intent to prepare an environmental impact statement and for scoping on the redevelopment of Poplar Point and proposed relocation of certain National Park Service and U.S. Park Police facilities in Washington, D.C.

SUMMARY: Pursuant to the National Environmental Policy Act of 1969 (NEPA), 42 U.S.C. 4321 et seq., the National Park Service (NPS) with the District of Columbia government (District), acting as joint lead agencies, will prepare an Environmental Impact Statement (EIS) to aid their decision-making under Title III of the Federal and District of Columbia Government Real Property Act of 2006, Pub. L. 109-396, 120 Stat. 2711 (2006) (D.C. Lands Act). During this NEPA process, the NPS and the District will be complying with applicable laws and regulations, including Section 106 of the National Historic Preservation Act, and those pertaining to activities within floodplains. Other Federal and District agencies may serve as cooperating agencies and they are invited to contact the NPS and the District. Scoping commences with this notice. Written comments on the scope of issues to be addressed in the EIS are requested, and a public meeting has been scheduled.

DATES: A public meeting to obtain input on the scope of issues to be addressed in the EIS is scheduled for June 24, 2008, at 7 p.m. at Matthews Memorial Baptist Church, 2616 Martin Luther King Avenue, SE., Washington, DC.

Written comments from the public and others are sought. Comments will be considered by both NPS and the District. For these comments to be most helpful to the scoping process, they must be received within 45 days from the date of publication of this notice. Before including your address, phone number, e-mail address, or other personal identifying information in your comment, be advised that your entire comment including your personal identifying information—may be made publicly available at any time. While you can ask us in your comment to withhold from public review your personal identifying information, we cannot guarantee that we will be able to do so.

Government agencies who will be or seek to be cooperating agencies are requested to get in touch with NPS, the District, or both as early in the process as possible.

ADDRESSES: The scoping meeting will be held at 7 p.m. at Matthews Memorial Baptist Church, 2616 Martin Luther King Avenue, SE., Washington, DC. Potential cooperating agencies should contact Peter May, Associate Regional Director for Lands, Resources and Planning, 1100 Ohio Drive SW., Washington, DC 20242, and/or the Office of the Deputy Mayor for Planning and Economic Development, Attention: Poplar Point Project Manager, 1350 Pennsylvania Avenue, NW., Suite 317, Washington, DC 20004, or http://www.poplarpointeis.com. Comments may be submitted electronically through the NPS Planning, Environment and Public Comment (PEPC) Web site at http://parkplanning.nps.gov/NACE; or by mail to: Superintendent, National Capital Parks—East, RE: Poplar Point Redevelopment, 1900 Anacostia Drive, SE., Washington, DC 20020. To be added to a mailing list about this project: contact Superintendent, National Capital Parks—East, RE: Poplar Point Redevelopment, 1900 Anacostia Drive, SE., Washington, DC 20020.

FOR FURTHER INFORMATION CONTACT: The NPS and the District may both be contacted. For the NPS: Superintendent, National Capital Parks—East, RE: Poplar Point Redevelopment, 1900 Anacostia Drive, SE., Washington, DC 20020. For the District: Office of the Deputy Mayor for Planning and Economic Development, Attention: Poplar Point Project Manager, 1350 Pennsylvania Avenue, NW., Suite 317, Washington, DC 20004 or http://www.poplarpointeis.com.

SUPPLEMENTARY INFORMATION: The D.C. Lands Act calls for the redevelopment of Poplar Point (the Site), by the District and, should the NPS and the District jointly determine that it is no longer appropriate for the NPS and U.S. Park Police (USPP), which is part of the NPS, to remain in their current Poplar Point facilities, new permanent replacement facilities will be provided by the District. The EIS will analyze alternatives for the District's redevelopment of the Site and for NPS and USPP replacement facilities which may be located elsewhere in Washington, D.C., and a no-action alternative. This EIS will be used in the decision-making processes for this relocation and redevelopment which are pursuant to the D.C. Lands Act. Much of the Site is within National Capital Parks—East of the National Park System and, by law, as the NPS and USPP facilities situation is resolved, these lands will go to the District, possibly through a sequence of multiple conveyances of title.

Poplar Point occupies a prime and highly visible parcel along the eastern bank of the Anacostia River, directly across from the Washington Navy Yard. The Site includes, but is not limited, to “Poplar Point” as defined in Section 304 of the D.C. Lands Act, and is generally bounded by the Anacostia River to the north, the Frederick Douglass Bridge to the west, the 11th Street Bridge to the east, and the Anacostia Freeway (Interstate 295) and Suitland Parkway to the south. It is approximately 130 acres, mostly under NPS jurisdiction, containing the NPS and USPP facilities and 60 acres of managed meadows. The Site will increase to approximately 150 acres when the Frederick Douglass Bridge is realigned further to the South; the District already has jurisdiction of the land underneath the freeway infrastructure leading to that bridge. The Site also contains the Anacostia Metro Station and a Washington Metropolitan Area Transit Authority (WMATA) parking garage.

The NPS and USPP presently operate in approximately 100,000 square feet of facilities at the Site. The NPS and USPP relocation involves the NPS and District agreeing on a new location and on facilities design, followed by the District providing such facilities to the NPS at no cost to the NPS. Options for relocation include moving to other land in the District, or relocation at the Site. A determination could also be made for the NPS and USPP to remain in their current facilities.

Pursuant to the D.C. Lands Act, the redevelopment of Poplar Point will include approximately 70 acres of parkland in perpetuity that may include wetlands, landscaped areas, pedestrian walkways, bicycle trails, seating, opensided shelters, natural areas, recreational use areas and memorial sites. For the remaining acreage of the Site, the District is considering proposals for a cultural institution or museum, transit, a sports complex or stadium, and residential and commercial uses.

Dated: May 19, 2008.
Lisa A. Mendelson-Ielmini,
Deputy Regional Director, National Capital Region.

[FR Doc. E8-12837 Filed 6-10-08; 8:45 am]

BILLING CODE 4312-JK-M